ENVIRONMENTAL PROTECTION AGENCY

40 CFR Part 52

[EPA-R04-OAR-2010-0604-201140; FRL-9464-1]

Approval and Promulgation of Implementation Plans and Designations of Areas for Air Quality Planning Purposes; Georgia: Atlanta; Determination of Attaining Data for the 1997 Annual Fine Particulate Matter Standards

AGENCY: Environmental Protection Agency (EPA).

ACTION: Proposed rule.

SUMMARY: EPA is proposing to make two determinations regarding the Atlanta, Georgia, fine particulate (PM2.5) nonattainment area (hereafter referred to as the “Atlanta Area” or “Area”). First, EPA is proposing to determine that the Area has attained the 1997 annual average PM2.5 National Ambient Air Quality Standards (NAAQS). This proposed determination of attaining data is based upon complete, quality-assured and certified ambient air monitoring data for the 2008-2010 period showing that the Area has monitored attainment of the 1997 annual PM2.5 NAAQS. If EPA finalizes this proposed determination of attaining data, the requirements for the Area to submit an attainment demonstration and associated reasonably available control measures (RACM), a reasonable further progress (RFP) plan, contingency measures, and other planning State Implementation Plan (SIP) revisions related to attainment of the standard shall be suspended so long as the Area continues to attain the annual PM2.5 NAAQS. Second, EPA is also proposing to determine, based on quality-assured and certified monitoring data for the 2007-2009 monitoring period, that the area has attained the 1997 annual PM2.5 NAAQS by its applicable attainment date of April 5, 2010.

DATES: Comments must be received on or before October 14, 2011.

ADDRESSES: Submit your comments, identified by Docket ID No. EPA-R04-OAR-2010-0604, by one of the following methods:

1. http://www.regulations.gov: Follow the on-line instructions for submitting comments.

2. E-mail: benjamin.lynorae@epa.gov.

3. Fax: (404) 562-9040.

4. Mail: EPA-R04-OAR-2010-0604, Regulatory Development Section, Air Planning Branch, Air, Pesticides and Toxics Management Division, U.S. Environmental Protection Agency, Region 4, 61 Forsyth Street, SW., Atlanta, Georgia 30303-8960.

5. Hand Delivery: Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office normal hours of operation, and special arrangements should be made for deliveries of boxed information. The Regional Office official hours of business are Monday through Friday, 8:30 to 4:30, excluding federal holidays.

Instructions: Direct your comments to Docket ID No. EPA-R04-OAR-2010-0604. EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov website is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Sara Waterson or Joel Huey, Regulatory Development Section, Air Planning Branch, Air, Pesticides and Toxics Management Division, U.S. Environmental Protection Agency, Region 4, 61 Forsyth Street, SW., Atlanta, Georgia 30303-8960. Ms. Waterson may be reached by phone at (404) 562-9061 or via electronic mail at waterson.sara@epa.gov. Mr. Huey may be reached by phone at (404) 562-9104. Mr. Huey can also be reached via electronic mail at huey.joel@epa.gov.

SUPPLEMENTARY INFORMATION:

I. What actions is EPA taking?

II. What is the background for these actions?

III. Does the Atlanta Area meet the snnual PM2.5 NAAQS?

A. Criteria

B. Atlanta Area Air Quality

C. Has the Atlanta Area met the 1997 annual PM2.5 air quality standard?

IV. What is the effect of these actions?

V. Statutory and Executive Order Reviews

I. What actions is EPA taking?

EPA is proposing to determine that the Atlanta Area (comprised of Barrow, Bartow, Carroll, Cherokee, Clayton, Cobb, Coweta, De Kalb, Douglas, Fayette, Forsyth, Fulton, Gwinnett, Hall, Heard, Henry, Newton, Paulding, Putnam, Rockdale, Spalding and Walton Counties) has attaining data for the 1997 annual PM2.5 NAAQS. The proposal is based upon complete, quality-assured and certified ambient air monitoring data for the 2008-2010 monitoring period that show that the Area has monitored attainment of the 1997 annual PM2.5 NAAQS. EPA is also proposing to determine, in accordance with EPA's PM2.5 Implementation Rule of April 25, 2007 (72 FR 20664), that the Atlanta Area has attained the 1997 annual PM2.5 NAAQS by its applicable attainment date of April 5, 2010.

II. What is the background for these actions?

On July 18, 1997 (62 FR 36852), EPA established an annual PM2.5 NAAQS at 15.0 micrograms per cubic meter (μg/m³) based on a 3-year average of annual mean PM2.5 concentrations. At that time, EPA also established a 24-hour NAAQS of 65 μg/m³. See 40 CFR 50.7. On January 5, 2005 (70 FR 944), EPA published its air quality designations and classifications for the 1997 PM2.5 NAAQS based upon air quality monitoring data from those monitors for calendar years 2001-2003. These designations became effective on April 5, 2005. The Atlanta Area was designated nonattainment for the 1997 annual PM2.5 NAAQS. See 40 CFR 81.301.

On October 17, 2006 (71 FR 61144), EPA retained the 1997 annual PM2.5 NAAQS at 15.0 μg/m³ based on a 3-year average of annual mean PM2.5 concentrations, and promulgated a 24-hour NAAQS of 35 μg/m³ based on a 3-year average of the 98th percentile of 24-hour concentrations. On November 13, 2009, EPA designated the Atlanta Area as nonattainment for the 2006 24-hour NAAQS (74 FR 58688). In that action, EPA also clarified the designations for the NAAQS promulgated in 1997, stating that the Atlanta Area was designated as nonattainment for the annual NAAQS but attainment for the 24-hour NAAQS. Thus, today's action does not address attainment of either the 1997 or the 2006 24-hour NAAQS.

In response to legal challenges of the annual NAAQS promulgated in 2006, the U.S. Court of Appeals for the District of Columbia Circuit (D.C. Circuit) remanded this NAAQS to EPA for further consideration. See American Farm Bureau Federation and National Pork Producers Council, et al. v. EPA, 559 F.3d 512 (D.C. Cir. 2009). However, given that the 1997 and 2006 annual NAAQS are essentially identical, attainment of the 1997 annual NAAQS would also indicate attainment of the remanded 2006 annual NAAQS.

On April 25, 2007 (72 FR 20664), EPA promulgated its PM2.5 implementation rule, codified at 40 CFR part 51, subpart Z, in which the Agency provided guidance for state and tribal plans to implement the 1997 PM2.5 NAAQS. This rule, at 40 CFR 51.1004(c), specifies some of the regulatory consequences of attaining the NAAQS, as discussed below.

III. Does the Atlanta area meet the annual PM2.5 NAAQS?

A. Criteria

Today's proposed rulemaking assesses whether (1) The Atlanta Area has attained the 1997 annual PM2.5 NAAQS, based on the most recent three years of quality-assured data, and (2) whether the Area attained that NAAQS by its applicable attainment date of April 5, 2010. The Atlanta Area is comprised of Barrow, Bartow, Carroll, Cherokee, Clayton, Cobb, Coweta, De Kalb, Douglas, Fayette, Forsyth, Fulton, Gwinnett, Hall, Heard, Henry, Newton, Paulding, Putnam, Rockdale, Spalding and Walton Counties.

Under EPA regulations at 40 CFR 50.7, the 1997 annual primary and secondary PM2.5 standards are met when the annual arithmetic mean concentration, as determined in accordance with 40 CFR part 50, Appendix N, is less than or equal to 15.0 µg/m³ at all relevant monitoring sites in the subject area.

B. Atlanta Area Air Quality

EPA has reviewed the ambient air monitoring data for the Atlanta Area in accordance with the provisions of 40 CFR part 50, Appendix N. All data considered have been quality-assured, certified, and recorded in EPA's Air Quality System (AQS) database. This review addresses air quality data collected in two 3-year periods. The period 2007-2009 is used for the determination of attainment by attainment date because that was the last period of certified data prior to the required attainment date of April 5, 2010. The period 2008-2010 is used for the determination of attaining data because that is the most recent period of certified data available now available to EPA.

Table 1 and the related discussion below show that, based on EPA's analysis of data for 2007-2009, the Area attained the 1997 annual PM2.5 standard by its attainment date of April 5, 2010. In addition, Table 2 and the related discussion below show that the Area continues to attain the standard based on available data for 2008-2010. There were data completeness issues at the Powder Springs, E. Rivers School, Fire Station #8/Georgia Tech, Gwinnett Tech, and Yorkville monitors for both the 2007-2009 and 2008-2010 periods. EPA performed a quarterly maximum data substitution test using 40 CFR Part 50 Appendix N and the April 1999 Guideline on Data Handling Conventions for the PM NAAQS (http://epa.gov/ttncaaa1/t1/memoranda/pmfinal.pdf) for the monitors with less than 75 percent complete data. Further discussion on the data substitution can be found in the technical support document (TSD) for this proposal. The three year annual design values both with and without data substitution are provided in Table 1 and Table 2 below. EPA's review of these data indicates that the Atlanta Area has met the 1997 annual PM2.5 NAAQS by the attainment date of April 5, 2010.

¹ Fire Station #8 was relocated to the Georgia Tech campus in 2007 and assigned a separate AQS number. It moved back to Fire Station #8 at the end of 2008 and resumed normal operation. The annual average design value with data substitution was calculated by combining the data records for Fire Station #8 and Georgia Tech.

Table 1—2007-2009 Annual Average PM2.5 Concentrations for Monitors in the Atlanta, Georgia Nonattainment Area
Location | Site No. | Annual average concentration (μg/m³) without data substitution | Annual average concentration (μg/m³) with data substitution
Georgia DOT | 13-063-0091 | 13.5 | N/A
GA National Guard | 13-067-0003 | 13.4 | N/A
Powder Springs | 13-067-0004 | 12.6 | 13.1
South DeKalb | 13-089-0002 | 13.0 | N/A
Police Dept. | 13-089-2001 | 13.3 | N/A
E. Rivers School | 13-121-0032 | 13.4 | 14.2
Fire Station #8 ¹ | 13-121-0039 | 9.8 | 13.8
Gwinnett Tech | 13-135-0002 | 12.7 | 13.3
Gainesville | 13-139-0003 | 11.8 | 12.8
Yorkville | 13-223-0003 | 12.0 | 12.7
N/A—Not Applicable.

Table 2—2008-2010 Annual Average PM2.5 Concentrations for Monitors in the Atlanta, Georgia Nonattainment Area
Location | Site No. | Annual average concentration (μg/m³) without data substitution | Annual average concentration (μg/m³) with data substitution
Georgia DOT | 13-063-0091 | 12.9 | N/A
GA National Guard | 13-067-0003 | 12.3 | N/A
Powder Springs | 13-067-0004 | 11.9 | 12.3
South Dekalb | 13-089-0002 | 12.1 | N/A
Police Dept. | 13-089-2001 | 12.3 | N/A
E. Rivers School | 13-121-0032 | 12.3 | 13.0
Fire Station #8 ² | 13-121-0039 | 11.4 | 13.6
Gwinnett Tech | 13-135-0002 | 12.1 | 12.5
Gainesville | 13-139-0003 | 11.2 | 11.9
Yorkville | 13-223-0003 | 11.0 | 11.6
N/A—Not Applicable.

The Powder Springs monitor has a 2007-2009 PM2.5 annual design value of 12.6 μg/m³. Since the monitor had one incomplete quarter during the second quarter of 2009, data substitution was conducted. The annual mean was recalculated, and the resulting 2007-2009 PM2.5 annual design value is 13.1 μg/m³. The current 2008-2010 PM2.5 annual design value is 11.9 μg/m³. Data substitution was conducted for the second quarter of 2009. The annual mean was recalculated, and the resulting 2008-2010 PM2.5 annual design value is 12.3 μg/m³. This monitor is considered attaining with design values of 12.6 μg/m³ and 11.9 μg/m³.

² Fire Station #8 was relocated to the Georgia Tech campus in 2007 and assigned a separate AQS number. It moved back to Fire Station #8 at the end of 2008 and resumed normal operation. The annual average design value with data substitution was calculated by combining the data records for Fire Station #8 and Georgia Tech.

The E. Rivers School monitor did not meet data completeness for the second and third quarters of 2009 due to roof repairs during the summer of 2009 that were out of the State's control. Georgia Environmental Protection Division appropriately notified Region 4 of the temporary site closure. Additionally, the fourth quarter in 2008 is also incomplete. The 2007-2009 PM2.5 annual design value is 13.4 μg/m³ and the 2008-2010 PM2.5 annual design value is 12.3 μg/m³. Data substitution was conducted and the recalculated annual design values are 14.2 μg/m³ and 13.0 μg/m³ respectively. This monitor is considered attaining with design values of 13.4 μg/m³ for the 2007-2009 monitoring period and 12.3 μg/m³ for the 2008-2010 monitoring period.

EPA's Office of Air Quality Planning and Standards (OAQPS) conducted an additional statistical analysis for the E. Rivers School monitor which indicates, as a weight of evidence, that despite the prolonged shut-down of the E. Rivers School monitor, the monitor would have attained in the 2007-2009 design value period. To evaluate air quality at the E. Rivers School monitor, EPA applied statistical analysis using data from other sites in the area. The approach, summarized in this section and further described in the TSD, is appropriate for this Area but may or may not be suitable for other areas with less than complete data. EPA will evaluate the appropriateness of this analytical approach on a case-by-case basis for determinations regarding each area with less than complete data.

The first step in the analysis was to assess the correlation of concentrations at the E. Rivers School site with concentrations at other sites in the Area. The monitor in the Area that had the highest correlation with the E. Rivers School site was the Georgia DOT monitor; therefore, subsequent analyses used data from this site. The second step was to develop a regression equation expressing the relationship between concentrations at the E. Rivers School and the Georgia DOT monitors. This regression equation was used to estimate values at the E. Rivers School site on days during quarters with incomplete data when the E. Rivers School site did not measure concentrations. A 2007-2009 design value for the E. Rivers School site was then calculated using these estimated values. Under this method, the 2007-2009 design value for the E. Rivers School site was estimated to be 13.6 μg/m³.

This estimated design value was then analyzed using a statistical method, referred to as the “bootstrap method,” that involves the use of regression residuals. In this analysis, EPA repeated the regression analysis 1,000 times with different values within the probability distribution of E. Rivers School concentrations that could be associated with given concentrations at the Georgia DOT monitor. From this analysis, as described in detail in the TSD, EPA determined that the upper end of the range of potential 2007-2009 design values obtained did not exceed the NAAQS. No exceedances of the NAAQS resulted from application of the statistical analysis. Therefore, EPA concluded that for 2007-2009, the annual average concentration of the E. Rivers School monitor is below the NAAQS.

The Fire Station #8 monitor was relocated to the Georgia Tech campus and was assigned a separate AQS number. It was moved back to Fire Station #8 at the end of 2008 and resumed normal operation. There were no data completeness issues at either site during the times each site was operated. The data records of the two sites were combined and resulted in a 13.8 μg/m³ design value for the 2007-2009 design value period. As an additional weight of evidence, the bootstrap analysis described above for the E. Rivers School site was also conducted for the Fire Station #8 monitor and passed with a 2007-2009 design value of 14.1 μg/m³. The South DeKalb monitor had the highest correlation with the Fire Station #8 monitor. This bootstrap analysis is further explained in the TSD for this document. The data records of the two sites were also combined for the 2008-2010 design value period, which resulted in a 13.6 μg/m³ design value.

The Gwinnett Tech monitor has a 2007-2009 PM2.5 annual design value of 12.7 μg/m³. Since the monitor had one incomplete quarter during the fourth quarter of 2008, data substitution was conducted. The annual mean was recalculated, and the resulting 2007-2009 PM2.5 annual design value is 13.3 μg/m³. The 2008-2010 PM2.5 annual design value is 12.1 μg/m³. Data substitution was conducted for the fourth quarter of 2008. The annual mean was recalculated, and the resulting 2008-2010 PM2.5 annual design value is 12.5 μg/m³. This monitor is considered attaining with design values of 12.7 μg/m³ and 12.1 μg/m³, respectively.

The Gainesville monitor has a 2007-2009 PM2.5 annual design value of 11.8 μg/m³. Since the monitor had two incomplete quarters during the third and fourth quarters of 2008, data substitution was conducted. The annual mean was recalculated, and the resulting 2007-2009 PM2.5 annual design value is 12.8 μg/m³. The current 2008-2010 PM2.5 annual design value is 11.2 μg/m³. Data substitution was conducted for the third and fourth quarters of 2008. The annual mean was recalculated, and the resulting 2008-2010 PM2.5 annual design value is 11.9 μg/m³. This monitor is considered attaining with design values of 11.8 μg/m³ and 11.2 μg/m³.

The Yorkville monitor has a 2007-2009 PM2.5 annual design value of 12.0 μg/m³. Since the monitor had one incomplete quarter during the third quarter of 2009, data substitution was conducted. The annual mean was recalculated, and the resulting 2007-2009 PM2.5 annual design value is 12.7 μg/m³. The current 2008-2010 PM2.5 annual design value is 11.0 μg/m³. Data substitution was conducted for the third quarter of 2009. The annual mean was recalculated, and the resulting 2008-2010 PM2.5 annual design value is 11.6 μg/m³. This monitor is considered attaining with design values of 12.0 μg/m³ and 11.0 μg/m³.

EPA believes that the Atlanta Area is now meeting the 1997 annual PM2.5 NAAQS. Since few data are available for 2011, the 2008-2010 data represent the most recent available data for EPA to use in its assessment. On the basis of this review, EPA is proposing to determine that the Atlanta Area has attained the 1997 annual PM2.5 NAAQS. EPA is soliciting public comments on its proposal to determine that the Atlanta Area has attained the 1997 annual PM2.5 NAAQS with 2007-2009 as well as 2008-2010 data, and attained the 1997 annual PM2.5 NAAQS by the April 5, 2010, attainment date using 2007-2009 data.

C. Has the Atlanta area met the 1997 annual PM2.5 air quality standard?

EPA has reviewed the ambient air monitoring data for PM2.5, consistent with the requirements contained in 40 CFR part 50 and recorded the data in the EPA AQS database, for the Atlanta Area from 2007 through the present time. On the basis of that review, EPA proposes to determine that this Area has attained and continues to attain the 1997 annual PM2.5 NAAQS based on the quality-assured data for the 2007-2009 monitoring period, which demonstrates attainment by April 5, 2010, and the 2008-2010 monitoring period. In addition, based on EPA's review of the data for 2007-2009, and in accordance with section 179(c)(1) of the CAA and EPA's regulations, EPA proposes to determine that the Area attained the 1997 annual PM2.5 NAAQS by its applicable attainment date of April 5, 2010.

IV. What is the effect of these actions?

If this proposed determination of attaining data is made final, the requirements for the Atlanta Area to submit an attainment demonstration and associated RACM, a RFP plan, contingency measures, and any other planning SIPs related to attainment of the 1997 annual PM2.5 NAAQS would be suspended for so long as the Area continues to attain the PM2.5 NAAQS. See 40 CFR 51.1004(c). Notably, as described below, any such determination would not be equivalent to the redesignation of the Area to attainment for the annual PM2.5 NAAQS.

If this proposed rulemaking is finalized and EPA subsequently determines, after notice-and-comment rulemaking in the Federal Register, that the Area has violated the annual PM2.5 NAAQS, the basis for the suspension of the specific requirements would no longer exist for the Atlanta Area, and the Area would thereafter have to address the applicable requirements. See 40 CFR 51.1004(c).

Finalizing this proposed action would not constitute a redesignation of the Area to attainment of the annual PM2.5 NAAQS under section 107(d)(3) of the Clean Air Act (CAA). Further, finalizing this proposed action does not involve approving a maintenance plan for the Area as required under section 175A of the CAA, nor would it find that the Area has met all other requirements for redesignation. Even if EPA finalizes the proposed action, the designation status of the Atlanta Area would remain nonattainment for the 1997 annual PM2.5 NAAQS until such time as EPA determines that the Area meets the CAA requirements for redesignation to attainment and takes action to redesignate the Area.

This action is only a proposed determination that the Atlanta Area has attained the 1997 annual PM2.5 NAAQS and has done so by the April 5, 2010, attainment date. Today's action does not address the 24-hour PM2.5 NAAQS.

If the Atlanta Area continues to monitor attainment of the annual PM2.5 NAAQS, the requirements for the Atlanta Area to submit an attainment demonstration and associated RACM, a RFP plan, contingency measures, and any other planning SIPs related to attainment of the annual PM2.5 NAAQS will remain suspended.

In addition, if EPA's separate and independent proposed determination that the Area has attained the 1997 annual PM2.5 standard by its applicable attainment date (April 5, 2010) is finalized, EPA will have met its requirement pursuant to section 179(c)(1) of the CAA to make a determination based on the Area's air quality data as of the attainment date whether the Area attained the standard by that date.

These two actions described above are proposed determinations regarding the Atlanta Area's attainment only with respect to the 1997 annual PM2.5 NAAQS. Today's actions do not address the 24-hour PM2.5 NAAQS.

V. Statutory and Executive Order Reviews

These actions propose to make determinations of attainment based on air quality, and would, if finalized, result in the suspension of certain federal requirements, and it would not impose additional requirements beyond those imposed by state law. For that reason, these proposed actions:

• Are not “significant regulatory actions” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not economically significant regulatory actions based on health or safety risks subject to Executive Order 13045 (62 FR 19885, April 23, 1997);

• Are not significant regulatory actions subject to Executive Order 13211 (66 FR 28355, May 22, 2001);

• Are not subject to requirements of Section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994). In addition, these proposed 1997 annual PM2.5 NAAQS determinations for the Atlanta Area do not have tribal implications as specified by Executive Order 13175 (65 FR 67249, November 9, 2000), because the SIP is not approved to apply in Indian country located in the state, and EPA notes that it will not impose substantial direct costs on tribal governments or preempt tribal law.

For purposes of judicial review, the two of the these determinations approved by today's action are severable from one another.

List of Subjects in 40 CFR Part 52

Environmental protection, Air pollution control, Particulate matter, Reporting and recordkeeping requirements.

Authority: 42 U.S.C. 7401 et seq.

Dated: September 1, 2011.
A. Stanley Meiburg,
Acting Regional Administrator, Region 4.

[FR Doc. 2011-23527 Filed 9-13-11; 8:45 am]

BILLING CODE 6560-50-P